DEPARTMENT OF ENERGY

Federal Energy Regulatory Commission

Combined Notice of Filings #1

Take notice that the Commission received the following electric corporate filings:

Docket Numbers: EC18-136-000.

Applicants: JERA Power Compass, LLC, Dighton Power, LLC, Marco DM Holdings, L.L.C., Marcus Hook Energy, L.P., Marcus Hook 50, L.P., Milford Power, LLC.

Description: Supplement to August 9, 2018 Joint Application for Authorization under Section 203 of the Federal Power Act, et al. of JERA Power Compass, LLC, et al.

Filed Date: 10/1/18.

Accession Number: 20181001-5190.

Comments Due: 5 p.m. ET 10/11/18.

Take notice that the Commission received the following exempt wholesale generator filings:

Docket Numbers: EG19-2-000.

Applicants: SR Millington, LLC.

Description: Notice of Self-Certification of Exempt Wholesale Generator Status of SR Millington, LLC.

Filed Date: 10/4/18.

Accession Number: 20181004-5162.

Comments Due: 5 p.m. ET 10/25/18.

Take notice that the Commission received the following electric rate filings:

Docket Numbers: ER19-53-000.

Applicants: SR Millington, LLC.

Description: Baseline eTariff Filing: MBR Application to be effective 11/18/2018.

Filed Date: 10/4/18.

Accession Number: 20181004-5158.

Comments Due: 5 p.m. ET 10/25/18.

Docket Numbers: ER19-54-000.

Applicants: Northeastern Power Company.

Description: Request for Waiver, et al. of Northeastern Power Company.

Filed Date: 10/4/18.

Accession Number: 20181004-5176.

Comments Due: 5 p.m. ET 10/11/18.

Docket Numbers: ER19-55-000.

Applicants: Midcontinent Independent System Operator, Inc., ALLETE, Inc.

Description: § 205(d) Rate Filing: 2018-10-05_SA 3174 MP-GRE Switch Change Out Agreement (Lakeland) to be effective 10/6/2018.

Filed Date: 10/5/18.

Accession Number: 20181005-5035.

Comments Due: 5 p.m. ET 10/26/18.

Docket Numbers: ER19-56-000.

Applicants: Duke Energy Progress, LLC.

Description: § 205(d) Rate Filing: DEP-NCEMPA NITSA (SA No. 268) Amendment to be effective 10/1/2018.

Filed Date: 10/5/18.

Accession Number: 20181005-5041.

Comments Due: 5 p.m. ET 10/26/18.

Docket Numbers: ER19-57-000.

Applicants: AEP Texas Inc.

Description: § 205(d) Rate Filing: AEPTX-Raymond Wind Farm Interconnection Agreement to be effective 9/18/2018.

Filed Date: 10/5/18.

Accession Number: 20181005-5074.

Comments Due: 5 p.m. ET 10/26/18.

Docket Numbers: ER19-58-000.

Applicants: Arizona Public Service Company.

Description: § 205(d) Rate Filing: Service Agreement No. 367, ANPP Hassayampa with Sun Streams to be effective 9/7/2018.

Filed Date: 10/5/18.

Accession Number: 20181005-5140.

Comments Due: 5 p.m. ET 10/26/18.

Docket Numbers: ER19-59-000.

Applicants: Blue Cloud Wind Energy, LLC.

Description: Baseline eTariff Filing: Blue Cloud Wind Energy, LLC MBR Tariff to be effective 10/28/2018.

Filed Date: 10/5/18.

Accession Number: 20181005-5169.

Comments Due: 5 p.m. ET 10/26/18.

Take notice that the Commission received the following public utility holding company filings:

Docket Numbers: PH19-1-000.

Applicants: Northwest Natural Holding Company.

Description: Northwest Natural Holding Company submits FERC 65-A Exemption Notification.

Filed Date: 10/5/18.

Accession Number: 20181005-5166.

Comments Due: 5 p.m. ET 10/26/18.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 5, 2018.
Nathaniel J. Davis, Sr.,
Deputy Secretary.

[FR Doc. 2018-22326 Filed 10-12-18; 8:45 am]

BILLING CODE 6717-01-P